DEPARTMENT OF THE TREASURY

Submission for OMB Review; Comment Request

September 4, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 14, 2009 to be assured of consideration.

Alcohol and Tobacco Tax and Trade Bureau (TTB)

OMB Number: 1513-0089.

Type of Review: Extension.

Title: Liquors and Articles from Puerto Rico or the Virgin Islands (TTB REC 5530/3).

Description: The information collection requirements for persons bring non-beverage products into the United States from Puerto Rico and the Virgin Islands are necessary for the verification of claims for drawback of distilled spirts excise taxes paid on such products.

Respondents: Businesses or other for-profits.

Estimated Total Burden Hours: 160 hours.

OMB Number: 1513-0074.

Type of Review: Extension.

Title: Airlines Withdrawing Stock from Customs Custody (TTB REC 5620/2).

Description: Airlines may withdraw tax exempt distilled spirts, wine, and beer from Customs custody for foreign flights. Required record shows amount of spirits and wine withdrawn and flight identification; also has Customs certification; enables TTB to verify that tax is not due; allows spirts and wines to be traced and maintains accountability. Protects tax revenue. The collection of information is contained 27 CFR 28.280 and 28.281.

Respondents: Businesses or other for-profits.

Estimated Total Burden Hours: 2,500 hours.

OMB Number: 1513-0047.

Type of Review: Extension.

Form: TTB F 5110.40.

Title: Distilled Spirts Records (TTB REC 5110/01) and Monthly Report of Production Operations.

Description: The information collected in used to account for proprietor's tax liability, adequacy of bond coverage and protection of the revenue. The information also provides data to analyze trends in the industry, and plan efficient allocation of field resources audit plant operations, and compilation of statistics for government economic analysis.

Respondents: Businesses or other for-profits.

Estimated Total Burden Hours: 3,600 hours.

OMB Number: 1513-0010.

Type of Review: Extension.

Form: TTB F 5120.29.

Title: Formula and Process for Wine.

Description: TTB F 5120.29 is used to determine the classification of wines for labeling and consumer protection. The form describes the person filing, type of product to be made, and restrictions to the labeling and manufacture. The form is also used to audit a product.

Respondents: Businesses or other for-profits.

Estimated Total Burden Hours: 1,200 hours.

OMB Number: 1513-0004.

Type of Review: Extension.

Title: Authorization to Furnish Financial Information and Certificate of Compliance.

Description: The Right to Financial Privacy Act of 1978 limits access to records held by financial institutions and provides for certain procedures to gain access to the information. TTB F 5030.6 serves as both a customer authorization for TTB to receive information and as the required certification to the financial institution.

Respondents: Businesses or other for-profits.

Estimated Total Burden Hours: 500 hours.

Clearance Officer: Frank Foote (202) 927-9347. Alcohol and Tobacco Tax and Trade Bureau, Room 200 East, 1310 G. Street, NW., Washington, DC 20005.

OMB Reviewer: Shagufta Ahmed (202) 395-7873. Office of Management and Budget, Room 10235, New Executive Office Building, Washington, DC 20503.

Celina Elphage,
Treasury PRA Clearance Officer.

[FR Doc. E9-21982 Filed 9-11-09; 8:45 am]

BILLING CODE 4810-31-P